DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2023, through March 31, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Andrew Williamson, Shawnee Mission, Kansas, Court of Federal Claims No: 23-0301V

2. Hoberleigh Nicholson, Bowling Green, Kentucky, Court of Federal Claims No: 23-0302V

3. David Kiss, Malvern, Pennsylvania, Court of Federal Claims No: 23-0304V

4. Nancy Hardy, Dallas, Texas, Court of Federal Claims No: 23-0305V

5. Freddrick T. Pollard, Redgranite, Wisconsin, Court of Federal Claims No: 23-0307V

6. Brian Bieber, Sioux Falls, South Dakota, Court of Federal Claims No: 23-0309V

7. Haley Ferguson, Phoenix, Arizona, Court of Federal Claims No: 23-0312V

8. Jennifer Teeter, Johnstown, Pennsylvania, Court of Federal Claims No: 23-0313V

9. Reba Lopez, Milwaukee, Wisconsin, Court of Federal Claims No: 23-0315V

10. Amanda Soliz, Boston, Massachusetts, Court of Federal Claims No: 23-0316V

11. Heather Jowett, Detroit, Michigan, Court of Federal Claims No: 23-0317V

12. Ashley Jennings, Independence, Missouri, Court of Federal Claims No: 23-0318V

13. David Deocampo, Blue Ash, Ohio, Court of Federal Claims No: 23-0319V

14. Aynabeba Singh, Howell, New Jersey, Court of Federal Claims No: 23-0323V

15. Dawn Guerrero, North Babylon, New York, Court of Federal Claims No: 23-0325V

16. Kristin Maeckel, Alpharetta, Georgia, Court of Federal Claims No: 23-0326V

17. Jenny Neidig, Sunbury, Pennsylvania, Court of Federal Claims No: 23-0327V

18. Heidi Flanagan, Oakland, California, Court of Federal Claims No: 23-0328V

19. Charlotte J. Bridges, Morganton, North Carolina, Court of Federal Claims No: 23-0329V

20. Gayle Duncan, Lutherville-Timonium, Maryland, Court of Federal Claims No: 23-0331V

21. Austen Walker, San Antonio, Texas, Court of Federal Claims No: 23-0333V

22. Randall Steffens, Weimar, California, Court of Federal Claims No: 23-0336V

23. Gayle Mckay, Houston, Texas, Court of Federal Claims No: 23-0337V

24. Matthew Gudorf, Uhrichsville, Ohio, Court of Federal Claims No: 23-0342V

25. Mashonda Graham, Granite City, Illinois, Court of Federal Claims No: 23-0344V

26. Brian Reese, La Mesa, California, Court of Federal Claims No: 23-0345V

27. Dale Prindle, Wauconda, Illinois, Court of Federal Claims No: 23-0346V

28. Linda Johnson on behalf of the Estate of Joseph Johnson, Sr., Deceased, Covington, Louisiana, Court of Federal Claims No: 23-0347V

29. Josephine Corban, Boston, Massachusetts, Court of Federal Claims No: 23-0349V

30. Cheryl Weakley, San Diego, California, Court of Federal Claims No: 23-0350V

31. Diane Fisher, Woodbridge, Illinois, Court of Federal Claims No: 23-0352V

32. Charleigh Gadd, Phoenix, Arizona, Court of Federal Claims No: 23-0353V

33. Olivia Warpula, Phoenix, Arizona, Court of Federal Claims No: 23-0354V

34. David Krube, Boston, Massachusetts, Court of Federal Claims No: 23-0355V

35. Lauren Blinder, Lakeland, Florida, Court of Federal Claims No: 23-0356V

36. Christa Leininger, Kansas City, Missouri, Court of Federal Claims No: 23-0357V

37. Charlie Booth, Clackamas, Oregon, Court of Federal Claims No: 23-0358V

38. Linda Ruocco, Mount Vernon, New York, Court of Federal Claims No: 23-0360V

39. Elizabeth Soriano, Santa Clara, California, Court of Federal Claims No: 23-0362V

40. Chris Watson, North Kansas City, Missouri, Court of Federal Claims No: 23-0364V

41. Gwendolyn Giorgi, Providence, Rhode Island, Court of Federal Claims No: 23-0365V

42. Pearlene Derello, Mebane, North Carolina, Court of Federal Claims No: 23-0366V

43. Marna Harmon, Ottawa, Illinois, Court of Federal Claims No: 23-0367V

44. April Chesnutt-Kriss, St. Louis, Missouri, Court of Federal Claims No: 23-0368V

45. Laureen Usina, Fort Wayne, Indiana, Court of Federal Claims No: 23-0369V

46. Kaitlyn Sorby, Las Vegas, Nevada, Court of Federal Claims No: 23-0370V

47. Joya Wotila, Southlake, Texas, Court of Federal Claims No: 23-0371V

48. Suzanne C. Anderson, Bangor, Maine, Court of Federal Claims No: 23-0373V

49. Diana Smith, Menlo Park, California, Court of Federal Claims No: 23-0375V

50. Barbara Dorsett, Sacramento, California, Court of Federal Claims No: 23-0377V

51. Joan Barclay, Babylon, New York, Court of Federal Claims No: 23-0378V

52. Hannah Huie, Phoenix, Arizona, Court of Federal Claims No: 23-0379V

53. Renee Rini, Albuquerque, New Mexico, Court of Federal Claims No: 23-0380V

54. Kenneth Arrington, Boston, Massachusetts, Court of Federal Claims No: 23-0381V

55. Rekha Kumar, Arcadia, California, Court of Federal Claims No: 23-0382V

56. Charlie Benedick, Casper, Wyoming, Court of Federal Claims No: 23-0384V

57. Al Raya, Bedford, Virginia, Court of Federal Claims No: 23-0385V

58. Steve Cantalupo on behalf of A.C., Phoenix, Arizona, Court of Federal Claims No: 23-0388V

59. Muriel Childs, Dyer, Indiana, Court of Federal Claims No: 23-0389V

60. Elizabeth Sanchez Denton, Dan Diego, California, Court of Federal Claims No: 23-0390V

61. Matthew Iroku, Phoenix, Arizona, Court of Federal Claims No: 23-0395V

62. Marcia Rea, Woodland Hills, California, Court of Federal Claims No: 23-0397V

63. Kimberly Uribe, Haslett, Michigan, Court of Federal Claims No: 23-0398V

64. Karey Dunaway, Dublin, Ohio, Court of Federal Claims No: 23-0400V

65. Lisa McMurtry on behalf of M.M., Phoenix, Arizona, Court of Federal Claims No: 23-0404V

66. Barbara Glover, Elm City, North Carolina, Court of Federal Claims No: 23-0406V

67. Kim Leone, Boston, Massachusetts, Court of Federal Claims No: 23-0407V

68. Alexa Flores, Phoenix, Arizona, Court of Federal Claims No: 23-0408V

69. Richard Liebell, Boston, Massachusetts, Court of Federal Claims No: 23-0409V

70. Michelle Wombold, Gainesville, Florida, Court of Federal Claims No: 23-0410V

71. Joanne Costello, New Milford, Connecticut, Court of Federal Claims No: 23-0411V

72. Mackenzie Gardett, Phoenix, Arizona, Court of Federal Claims No: 23-0412V

73. Leslie Sager, Seattle, Washington, Court of Federal Claims No: 23-0413V

74. Crystal Morefield on behalf of A.J., Phoenix, Arizona, Court of Federal Claims No: 23-0414V

75. Shelly Simms on behalf of R.S., Phoenix, Arizona, Court of Federal Claims No: 23-0419V

76. Cortney Ball, London, Ohio, Court of Federal Claims No: 23-0420V

77. Cara Fowler, Westerville, Ohio, Court of Federal Claims No: 23-0421V

78. Ian Bruening, Cumming, Georgia, Court of Federal Claims No: 23-0422V

79. Lori Wigler, New York City, New York, Court of Federal Claims No: 23-0426V

80. Michael Veystel, Newark, New Jersey, Court of Federal Claims No: 23-0428V

81. Kevin Charles McIntosh, Grants Pass, Oregon, Court of Federal Claims No: 23-0429V

82. Madeleine Karol, San Diego, California, Court of Federal Claims No: 23-0432V

83. Clarissa Olive, Phoenix, Arizona, Court of Federal Claims No: 23-0435V

84. Teresa Farias, Mission, Texas, Court of Federal Claims No: 23-0436V

85. Dora Homann, Huntersville, North Carolina, Court of Federal Claims No: 23-0437V

86. Tracy Barnhart on behalf of A.B., Lockport, Illinois, Court of Federal Claims No: 23-0439V

87. Wendy Hubbard, Houston, Texas, Court of Federal Claims No: 23-0440V

88. Nora Barron, Hoboken, New Jersey, Court of Federal Claims No: 23-0442V

89. Michael Stack, Tampa, Florida, Court of Federal Claims No: 23-0454V

90. Elizabeth Culhane, Greenwood, Michigan, Court of Federal Claims No: 23-0456V

91. Kimberly Sullivan on behalf of M.S., Phoenix, Arizona, Court of Federal Claims No: 23-0458V

92. Jan Holt on behalf of K.S., Phoenix, Arizona, Court of Federal Claims No: 23-0459V

93. Venetia Royster on behalf of M.L., Greensboro, North Carolina, Court of Federal Claims No: 23-0460V

[FR Doc. 2023-10281 Filed 5-12-23; 8:45 am]

BILLING CODE 4165-15-P